DEPARTMENT OF COMMERCE

International Trade Administration

[A-533-824, A-583-837]

Polyethylene Terephthalate Film, Sheet, and Strip From India and Taiwan: Final Results of the Expedited Sunset Reviews of the Antidumping Duty Orders

AGENCY: Import Administration, International Trade Administration, Department of Commerce.

SUMMARY: On June 1, 2007, the Department of Commerce (the Department) published in the Federal Register the notice of initiation of the five-year sunset reviews of the antidumping duty orders on polyethylene terephthalate film, sheet, and strip (PET Film) from India and Taiwan pursuant to section 751(c) of the Tariff Act of 1930, as amended (the Act).¹ As a result of adequate substantive response on filed on behalf of domestic interested parties and inadequate response from respondent interested parties, the Department has conducted expedited sunset reviews for these orders pursuant to section 751(c)(3)(B) of the Act and 19 CFR 351.218(e)(1)(ii)(c). As a result of this sunset review, the Department finds that revocation of the antidumping duty orders would be likely to lead to continuation or recurrence of dumping at the levels indicated in the “Final Results of Review” section of this notice.

¹ See Initiation of Five-Year (“Sunset”) Reviews, 72 FR 30544 (June 1, 2007) (Notice of Initiation).

DATES: Effective Date: October 9, 2007.

FOR FURTHER INFORMATION CONTACT: Martha Douthit or Dana Mermelstein, AD/CVD Operations, Office 6, Import Administration, International Trade Administration, U.S. Department of Commerce, 14th Street & Constitution Avenue, NW., Washington, DC 20230; telephone: (202) 482-5050 and (202) 482-1391, respectively.

SUPPLEMENTARY INFORMATION:

Background

On June 1, 2007, the Department initiated sunset reviews of the antidumping duty orders on PET Film from India and Taiwan, pursuant to section 751(c) of the Act. See Notice of Initiation. Within the deadline specified in section 351.218(d)(1)(i) of the Department's regulations, the Department received notices of intent to participate from domestic interested parties DuPont Teijin Films (DuPont), Mitsubishi Polyester Film of America (MFA), SKC, Inc. (SKC), and Toray Plastics (America), Inc. (TPA) (collectively, the PET Film Group). DuPont, MFA, and TPA were the petitioners in the original investigation. SKC was a supporter of the petition in the original investigation. The PET Film Group stated that they are not related to any Indian or Taiwanese producers or exporters of the subject merchandise. In addition, members of the PET Film Group noted that they are not importers of the subject merchandise and they are not related to any importer of the subject merchandise. The PET Film Group claimed interested party status under section 771(9)(C) of the Act as U.S. producers of a domestic like product.

On July 2, 2007, the Department received substantive responses from the PET Film Group within the deadline specified in 19 CFR 351.218(d)(3)(i). We did not receive responses from respondent interested parties in this proceeding. As such, pursuant to 19 CFR 351.218(e)(1)(ii)(c)(1), the Department notified the ITC that respondent interested parties' responses were inadequate. See Letter from Susan Kuhbach, Senior Director, AD/CVD Operations, Office 1, Import Administration, to Robert Carpenter, Director, Office of Investigations, ITC, dated July 23, 2007. In accordance with section 751(c)(3)(B) of the Act, the Department has conducted an expedited review of these orders.

Scope of the Orders

India and Taiwan

The products covered by these orders are all gauges of raw, pretested, or primed PET film, whether extruded or coextruded. Excluded are metallized films and other finished films that have had at least one of their surfaces modified by the application of a performance-enhancing resinous or inorganic layer more than 0.00001 inches thick. Imports of PET film were currently classifiable in the Harmonized Tariff Schedule of the United States (“HTSUS”) under item number 3920.62.00. Effective July 1, 2003, the HTSUS subheading 3920.62.00.00 was divided into 3920.62.00.10 (metallized PET film) and 3920.62.00.90 (non-metallized PET film). Although the HTSUS subheadings are provided for convenience and customs purposes, the written description of the scope of these orders is dispositive. Since these orders were published, there was one scope determination for PET Film from India, dated August 25, 2003. In this determination, requested by International Packaging Films, Inc., the Department determined that tracing and drafting film is outside of the scope of the order on PET Film from India.²

² See Notice of Scope Rulings, 70 FR 24533 (May 10, 2005).

Analysis of Comments Received

All issues raised in these reviews are addressed in the Issues and Decision Memorandum for the Expedited Sunset Reviews of the Antidumping Duty Orders on PET Film from India and Taiwan; Final Results from Stephen J. Claeys, Deputy Assistant Secretary for Import Administration, to David M. Spooner, Assistant Secretary for Import Administration, dated concurrently with this notice, and which is hereby adopted by this notice (Decision Memorandum). The issues discussed in the Decision Memorandum include the likelihood of continuation or recurrence of dumping and the magnitude of the margins likely to prevail if these orders were to be revoked. Parties can find a complete discussion of all issues raised in these reviews and the corresponding recommendations in this public memorandum which is on file in room B-099 of the main Department building. In addition, a complete version of the Decision Memorandum can be accessed directly on the Web at http://ia.ita.doc.gov/frn. The paper copy and electronic version of the Decision Memo are identical in content.

Final Results of Review

The Department has determined that revocation of the antidumping duty orders on PET Film from India and Taiwan would be likely to lead to continuation or recurrence of dumping. Further, the Department determines that the rates likely to prevail are as follows:

³ In the investigation, we found Ester's rate to be 24.14 percent, which was adjusted to 5.71 percent to take into account the export subsidy rate found in the companion countervailing duty investigation.

⁴ In the investigation, we found Polyplex's rate to be 10.3 percent, which was adjusted to 0.01 percent to take into account the export subsidy rate found in the companion countervailing duty investigation, and we excluded Polyplex from the antidumping order. Polyplex's exclusion was subsequently reversed by a decision of the Court of International Trade. See Dupont Teijin Films USA, LP, Mitsubishi Polyester Film of America, LLC, and Toray Plastics (America), Inc. v. United States and Polyplex Corporation Limited, USCIT Slip Op. 04-70 (June 18, 2004); Notice of Decision of the Court of International Trade: Polyethylene Terephthalate Film, Sheet, and Strip from India, 69 FR 40352 (July 2, 2004).

Manufacturers/exporters/ producers | Weighted average margin (percent)
India
Ester | ³ 5.71
Polyplex Corporation Limited | ⁴ 0.01
All Others | ⁵ 5.71
Taiwan
Nan Ya Plastics Corporation, Ltd | 2.49
Shinkong Synthetic Fibers Corporation | 2.05
All Others | 2.40

⁵ The “all others” rate established in the investigation was based on Ester's rate.

International Trade Commission (ITC) Notification

In accordance with section 752(c)(3) of the Act, we will notify the ITC of the final results of these expedited sunset reviews.

Administrative Protective Orders

This notice also serves as the only reminder to parties subject to administrative protective orders (“APO”) of their responsibility concerning the return or destruction of proprietary information disclosed under APO in accordance with 19 CFR 351.305. Timely notification of the return or destruction of APO materials or conversion to judicial protective orders is hereby requested. Failure to comply with the regulations and terms of an APO is a violation which is subject to sanction.

We are issuing and publishing the results and notice in accordance with sections 751(c), 752, and 777 of the Act.

Dated: October 1, 2007.
David M. Spooner,
Assistant Secretary for Import Administration.

[FR Doc. E7-19820 Filed 10-5-07; 8:45 am]

BILLING CODE 3510-DS-P